ENVIRONMENTAL PROTECTION AGENCY

[ER-FRL-9025-7]

Environmental Impact Statements; Notice of Availability

Responsible Agency: Office of Federal Activities, General Information (202) 564-7146 or http://www2.epa.gov/nepa.

Weekly receipt of Environmental Impact Statements (EISs)

Filed 02/15/2016 Through 02/19/2016

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20160041, Final, FTA, NC, Durham-Orange Light Rail, Contact: Stanley A. Mitchell 404-865-5600, Under MAP 21 section 1319, FTA has issued a Final EIS and ROD. Therefore, the 30-day wait/review period under NEPA does not apply to this action.

EIS No. 20160042, Final, USACE, CA, San Elijo Lagoon Restoration Project, Review Period Ends: 03/28/2016, Contact: Meris Guerrero 760-602-4836

EIS No. 20160043, Draft Supplement, USFWS, OH, Ballville Dam Project, Comment Period Ends: 04/11/2016, Contact: Brian Elkington 612-713-5168

EIS No. 20160044, Draft Supplement, BOEM, LA, Gulf of Mexico OCS Oil and Gas Lease Sale: 2017 Central Planning Area Lease Sale 247, Comment Period Ends: 04/11/2016, Contact: Gary Goeke 504-736-3233

EIS No. 20160045, Final, TVA, TN, Floating Houses Policy Review, Review Period Ends: 03/28/2016, Contact: Matthew Higdon 865-632-8051

EIS No. 20160046, Draft, FERC, OH, Rover Pipeline, Panhandle Backhaul, and Trunkline Backhaul Projects, Comment Period Ends: 04/11/2016, Contact: Kevin Bowman 202-502-6287

Dated: February 23, 2016.
Dawn Roberts,
Management Analyst, NEPA Compliance Division, Office of Federal Activities.

[FR Doc. 2016-04184 Filed 2-25-16; 8:45 am]

BILLING CODE 6560-50-P